DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting (teleconference) of the FAA's Aviation Rulemaking Advisory Committee (ARAC) to discuss transport airplane and engine (TAE) issues.

DATES: The meeting is scheduled for Tuesday, May 20, 2008 starting at 10:30 a.m. Eastern Daylight Time. Arrange for oral presentations by May 6, 2008.

ADDRESSES: Federal Aviation Administration, 800 Independence Ave., SW., Room 810, Washington, DC 20591.

FOR FURTHER INFORMATION CONTACT: Nicanor Davidson, Office of Rulemaking, ARM-207, FAA, 800 Independence Avenue, SW., Washington, DC 20591, Telephone (202) 267-5174, FAX (202) 267-5075, or e-mail at nicanor.davidson@faa.gov.

SUPPLEMENTARY INFORMATION: Pursuant to Section 10(a)(2) of the Federal Advisory Committee Act (Pub. L. 92-463; 5 U.S.C. app. III), notice is given of an ARAC meeting to be held via teleconference on May 20, 2008. This ad hoc meeting is being held to review and vote on the Task 3 report (Specific Risk) from the Airplane Level Safety Analysis Working Group (ASAWG).

The agenda for the meeting is as follows:

• Opening Remarks;

• ASAWG Task 3 Report and Vote.

Attendance is open to the public, but will be limited to the availability of phone lines. Please confirm your attendance with the person listed in the FOR FURTHER INFORMATION CONTACT section no later than May 6, 2008. Please provide the following information: Full legal name and name of your industry association, or applicable affiliation. If you are attending as a public citizen, please indicate so.

For persons participating, the call-in number is (202) 493-4180; the Passcode is “5507.” To insure that sufficient telephone lines are available, please notify the person listed in the FOR FURTHER INFORMATION CONTACT section of your intent to participate by May 6, 2008. Anyone calling from outside the Washington, DC metropolitan area will be responsible for paying long-distance charges.

If you need meeting documents, please contact the person listed in the FOR FURTHER INFORMATION CONTACT section.

Issued in Washington, DC on April 17, 2008.
Pamela Hamilton-Powell,
Director, Office of Rulemaking.

[FR Doc. E8-9060 Filed 4-24-08; 8:45 am]

BILLING CODE 4910-13-P